DEPARTMENT OF THE TREASURY

Community Development Financial Institutions Fund

Proposed Collection; Comment Request

ACTION: Notice and request for comments.

SUMMARY: The Department of Treasury, as part of its continuing effort to reduce paperwork and respondent burden, invites the general public and other Federal agencies to take this opportunity to comment on proposed and/or continuing information collections, as required by the Paperwork Reduction Act of 1995, Public Law 104-13 (44 U.S.C. 3506(c)(2)(A)). The Community Development Financial Institutions Fund (the Fund) within the Department of the Treasury is soliciting comments concerning its Conflict of Interest package that contract personnel will be required to complete and submit as a prerequisite for evaluating applications for Federal financial assistance under the Community Development Financial Institutions Program (the CDFI Program).

DATES: Written comments should be received on or before August 16, 2000 to be assured of consideration.

ADDRESSES: Direct all comments, in writing, to the Director, Community Development Financial Institutions Fund, U.S. Department of the Treasury, 601 13th Street, NW., Suite 200 South, Washington, DC 20005, Facsimile (202) 622-8244.

FOR FURTHER INFORMATION CONTACT: Requests for additional information or copies of the Conflict of Interest package should be directed, in writing, to the Office of Legal Counsel, Community Development Financial Institutions Fund, U.S. Department of the Treasury, 601 13th Street, NW., Suite 200 South, Washington, DC 20005, by calling (202) 622-9018, or by sending an email to cdfihelp@cdfi.treas.gov.

SUPPLEMENTARY INFORMATION: Title: Conflict of Interest Package for Community Development Financial Institutions Fund Non Federal Readers.

OMB Number: New number.

Abstract: The mission of the Fund is to promote economic revitalization and community development through investment in and assistance to community development financial institutions (CDFIs). CDFIs are financial institutions that, among other things, have a primary mission of community development and whose principal activities are targeted toward serving underserved people and/or residents of distressed communities. The Fund fulfills its mission principally through the CDFI Program through which the Fund provides financial assistance to CDFIs. The Fund makes funding determinations through a competitive evaluation and selection process. As part of its initial substantive review of applications under the CDFI Program, the Fund frequently utilizes a peer review process of three person reader teams. Each team typically comprises one Federal employee reader and two non-Federal employee readers whose services are acquired under contract.

Consistent with the Federal Acquisition Regulations provisions on conflicts of interest, the Fund seeks to identify and evaluate potential conflicts of interest as early in the acquisition process as possible and avoid, neutralize, or mitigate significant potential conflicts before non-Federal employees are selected to serve as readers under the CDFI Program. Specifically, the Fund seeks to collect information from prospective contractors/readers to avoid their participation in the evaluation or process of selection of applications where such participation creates a conflict of interest or an appearance of a conflict of interest.

Current Actions: The Fund plans to send a Conflict of Interest package to prospective contractors/readers early in 2001 for purposes of identifying and evaluating potential conflicts of interest associated with their evaluation of applications under the CDFI Program—Core Component. The Fund anticipates that the initial substantive review of applications under the Core Component will take place in the first quarter of 2001.

Type of review: New collection.

Affected Public: Contractors.

Estimated Number of Respondents: 80.

Estimated Annual Time Per Respondent: 45 minutes.

Estimated Total Annual Burden Hours: 60 hours.

Requests for Comments

Comments submitted in response to this notice will be summarized and/or included in the request for OMB approval. All comments will become a matter of public record. Comments are invited on: (a) Whether the proposed collection of information is necessary to identify and evaluate conflict of interests and/or appearances of conflicts of interest and whether such collection will have practical utility; (b) the accuracy of the Fund's estimate of the burden of the proposed collection of information; (c) ways to enhance the quality, utility and clarity of the information to be collected; and (d) ways to minimize the burden of the requested information on prospective contractors/readers through the use of appropriate automated, electronic, mechanical, or other technological collection techniques or other forms of information technology, such as permitting electronic submission of responses with electronic signatures.

Authority: 12 U.S.C. 4703 and 48 CFR subpart 9.5.

Dated: June 8, 2000.
Ellen Lazar,
Director, Community Development Financial Institutions Fund.

[FR Doc. 00-14978 Filed 6-13-00; 8:45 am]

BILLING CODE 4810-70-P